DEPARTMENT OF HEALTH AND HUMAN SERVICES

Food and Drug Administration

[Docket No. 1998N-0359] (formerly 98N-0359)

Program Priorities in the Center for Food Safety and Applied Nutrition; Request for Comments

AGENCY: Food and Drug Administration, HHS.

ACTION: Notice; request for comments.

SUMMARY: The Food and Drug Administration (FDA) is requesting comments concerning the establishment of program priorities in the Center for Food Safety and Applied Nutrition (CFSAN) for fiscal year (FY) 2008. As part of its annual planning, budgeting, and resource allocation process, CFSAN is reviewing its programs to set priorities and establish work product expectations. This notice is being published to give the public an opportunity to provide input into the priority-setting process.

DATES: Submit written or electronic comments by September 4, 2007.

ADDRESSES: Submit written comments concerning this document to the Division of Dockets Management (HFA-305), Food and Drug Administration, 5630 Fishers Lane, Rm. 1061, Rockville, MD 20852. Submit electronic comments to http://www.fda.gov/dockets/ecomments.

FOR FURTHER INFORMATION CONTACT: Tracy Summers, Center for Food Safety and Applied Nutrition (HFS-007), Food and Drug Administration, 5600 Fishers Lane, Rockville, MD 20740, e-mail: Tsummers@.fda.hhs.gov, 301-827-1603.

SUPPLEMENTARY INFORMATION:

I. Background

On June 5, 2007, CFSAN released a document entitled “FY 2007 Report to Stakeholders.” The document, a copy of which is available on CFSAN's Web page (http://www.cfsan.fda.gov/~dms/cfsan607.html), includes the Center's priority workplan for fiscal year 2007, i.e., October 1, 2006, through September 30, 2007. The FY 2007 workplan is based on input we received from our stakeholders (see 71 FR 37083; June 29, 2006), as well as input generated internally. Throughout the priority-setting process, we focused on one central question: “Where do we do the most good for consumers and the overall public health?”

The FY 2007 workplan is structured like the FY 2006 plan. It contains only those activities previously listed as “A” list items. Our goal is to fully complete at least 90 percent of the activities listed under sections 1 through 4 of the FY 2007 workplan by the end of the FY, September 30, 2007. The FY 2006 workplan also includes a fifth section entitled, “Priority Ongoing Activities.” Many of these activities are core functions that we perform on a regular basis and are among our very highest priorities.

II. 2008 CFSAN Program Priorities

FDA is requesting comments on what program priorities CFSAN should consider establishing for FY 2008. The input will be used to develop CFSAN's FY 2008 workplan. The workplan will set forth the Center's program priorities for the period of October 1, 2007, through September 30, 2008. FDA intends to make the FY 2008 workplan available on its Web site.

The format of the FY 2008 workplan will be similar to the FY 2007 workplan in that it will be divided into the following five sections:

(1) Food Defense

(2) Food Safety

(3) Nutrition and Labeling

(4) Dietary Supplements and Cosmetics

(5) Priority On-Going Activities

While there will likely be continuity and follow-through on many activities between the 2007 and 2008 work plans, the final FY 2008 Congressional Appropriation will unquestionably affect what we will be able to commit to accomplish in FY 2008. Accordingly, FDA requests comments on broad program areas that should continue to be a priority as well as new program areas or activities that should be added as a high priority for FY 2008.

III. Comments

Interested persons may submit to the Division of Dockets Management (see ADDRESSES) written or electronic comments regarding this document. Submit a single copy of electronic comments or two paper copies of any mailed comments, except that individuals may submit one paper copy. Comments are to be identified with the docket number found in brackets in the heading of this document. Received comments may be seen in the Division of Dockets Management between 9 a.m. and 4 p.m., Monday through Friday.

Dated: June 22, 2007.
Jeffrey Shuren,
Assistant Commissioner for Policy.

[FR Doc. E7-12884 Filed 7-2-07; 8:45 am]

BILLING CODE 4160-01-S